DEPARTMENT OF HEALTH AND HUMAN SERVICES

National Institutes of Health

National Institute of Environmental Health Sciences; Amended Notice of Meeting

Notice is hereby given of a change in the meeting of the National Institute of Environmental Health Sciences Special Emphasis Panel, April 11, 2001, 2 p.m. to April 11, 2001, 3 p.m., NIEHS-East Campus, Building 4401, Conference Room 122, 79 Alexander Drive Research Triangle Park, NC, 27709 which was published in the Federal Register on January 26, 2001, FR 66:7923.

The telephone conference call meeting will be held on April 17, 2001 from 2:30 p.m. to 3:30 p.m., instead of April 11, 2001, as previously advertised. The meeting is closed to the public.

Dated: March 27, 2001.
LaVerne Y. Stringfield,
Director, Office of Federal Advisory Committee Policy.

[FR Doc. 01-8367 Filed 4-4-01; 8:45 am]

BILLING CODE 4140-01-M